DEPARTMENT OF ENERGY

Federal Energy Regulatory Commission

[Docket Nos. PF17-10-000 and PF19-1-000]

Notice of Intent To Prepare an Environmental Assessment for the Planned FM100 Project and Leidy South Project, Request for Comments on Environmental Issues, and Notice of Public Scoping Session: National Fuel Gas Supply Company and Transcontinental Gas Pipe Line Company, LLC

The staff of the Federal Energy Regulatory Commission (FERC or Commission) will prepare an environmental assessment (EA) that will discuss the environmental impacts of the FM100 Project involving construction, operation, and abandonment of facilities by National Fuel Gas Supply Corporation (National Fuel) in Cameron, Clearfield, Clinton, Elk, McKean, and Potter Counties, Pennsylvania; and the Leidy South Project involving construction and operation of facilities by Transcontinental Gas Pipe Line Company, LLC (Transco), in Clinton, Columbia, Lycoming, Luzerne, Schuylkill, and Wyoming Counties, Pennsylvania. The Commission will use this EA in its decision-making process to determine whether the FM100 Project and Leidy South Project (collectively referred to as “the projects”) are in the public convenience and necessity.

This notice announces the opening of the scoping process the Commission will use to gather input from the public and interested agencies about issues regarding the projects. The National Environmental Policy Act (NEPA) requires the Commission to take into account the environmental impacts that could result from its action whenever it considers the issuance of a Certificate of Public Convenience and Necessity. NEPA also requires the Commission to discover concerns the public may have about proposals. This process is referred to as “scoping.” The main goal of the scoping process is to focus the analysis in the EA on the important environmental issues. By this notice, the Commission requests public comments on the scope of issues to address in the EA. To ensure that your comments are timely and properly recorded, please submit your comments so that the Commission receives them in Washington, DC on or before 5:00 p.m. Eastern Time on April 4, 2019.

You can make a difference by submitting your specific comments or concerns about the projects. Your comments should focus on the potential environmental effects, reasonable alternatives, and measures to avoid or lessen environmental impacts. Your input will help the Commission staff determine what issues they need to evaluate in the EA. Commission staff will consider all filed comments during the preparation of the EA.

If you sent comments on these projects to the Commission before the opening of their respective dockets (i.e., September 14, 2017, for the FM100 Project and November 5, 2018, for the Leidy South Project), you will need to file those comments in Docket Nos. PF17-10-000 for the FM100 Project or PF19-1-000 for the Leidy South Project to ensure they are considered as part of this proceeding.

This notice is being sent to the Commission's current environmental mailing list for these projects. State and local government representatives should notify their constituents of these planned projects and encourage them to comment on their areas of concern.

If you are a landowner receiving this notice, a pipeline company representative may contact you about the acquisition of an easement to construct, operate, and maintain the planned facilities, or to abandon existing facilities. The company would seek to negotiate a mutually acceptable easement agreement. You are not required to enter into an agreement. However, if the Commission approves the projects, that approval conveys with it the right of eminent domain. Therefore, if you and the company do not reach an easement agreement, the pipeline company could initiate condemnation proceedings in court. In such instances, compensation would be determined by a judge in accordance with state law.

A fact sheet prepared by the FERC entitled An Interstate Natural Gas Facility On My Land? What Do I Need To Know? is available for viewing on the FERC website (www.ferc.gov) at https://www.ferc.gov/resources/guides/gas/gas.pdf. This fact sheet addresses a number of typically asked questions, including the use of eminent domain and how to participate in the Commission's proceedings.

Public Participation

The Commission offers a free service called eSubscription which makes it easy to stay informed of all issuances and submittals regarding the dockets/projects to which you subscribe. These instant email notifications are the fastest way to receive notification and provide a link to the document files which can reduce the amount of time you spend researching proceedings. To sign up go to www.ferc.gov/docs-filing/esubscription.asp.

For your convenience, there are four methods you can use to submit your comments to the Commission. The Commission encourages electronic filing of comments and has staff available to assist you at (866) 208-3676 or FercOnlineSupport@ferc.gov. Please carefully follow these instructions so that your comments are properly recorded.

(1) You can file your comments electronically using the eComment feature, which is located on the Commission's website (www.ferc.gov) under the link to Documents and Filings. Using eComment is an easy method for submitting brief, text-only comments on a project;

(2) You can file your comments electronically by using the eFiling feature, which is located on the Commission's website (www.ferc.gov) under the link to Documents and Filings. With eFiling, you can provide comments in a variety of formats by attaching them as a file with your submission. New eFiling users must first create an account by clicking on eRegister. You will be asked to select the type of filing you are making; a comment on a particular project is considered a “Comment on a Filing”; or

(3) You can file a paper copy of your comments by mailing them to the following address. Be sure to reference the projects docket numbers (PF17-10-000 for the FM100 Project; PF19-1-000 for the Leidy South Project) with your submission: Kimberly D. Bose, Secretary, Federal Energy Regulatory Commission, 888 First Street NE, Room 1A, Washington, DC 20426.

(4) In lieu of sending written comments, the Commission invites you to attend one of the public scoping sessions its staff will conduct in the projects' area, scheduled as follows:

Date and time | Location
Monday, March 18, 2019, 5:00-7:30 p.m | Dallas Middle School, 2020 Conyngham Avenue, Dallas, PA 18612, 570-674-7222.
Tuesday, March 19, 2019, 5:00-7:30 p.m | Tri-Valley High School, 155 East Main Street, Heggins, PA 17938, 570-682-3125.
Wednesday, March 20, 2019, 5:00-7:30 p.m | Port Allegany High School, 20 Oak Street, Port Allegany, PA 16743, 814-642-2544.
Thursday, March 21, 2019, 5:00-7:30 p.m | Bucktail Area High School, 1300 Bucktail Avenue, Renovo, PA 17764, 570-923-1166.

The primary goal of these scoping sessions is to have you identify the specific environmental issues and concerns that should be considered in the EA. Individual verbal comments will be taken on a one-on-one basis with a court reporter. This format is designed to receive the maximum amount of verbal comments, in a convenient way during the timeframe allotted.

Each scoping session is scheduled from 5:00 p.m. to 7:30 p.m. eastern daylight time. You may arrive at any time after 5:00 p.m. There will not be a formal presentation by Commission staff when the session opens. If you wish to speak, the Commission staff will hand out numbers in the order of your arrival. Comments will be taken until 7:30 p.m. However, if no additional numbers have been handed out and all individuals who wish to provide comments have had an opportunity to do so, staff may conclude the session at 7:00 p.m. Please see appendix 1 for additional information on the session format and conduct.¹

¹ The appendices referenced in this notice will not appear in the Federal Register. Copies of the appendices were sent to all those receiving this notice in the mail and are available at www.ferc.gov using the link called “eLibrary” or from the Commission's Public Reference Room, 888 First Street NE, Washington, DC 20426, or call (202) 502-8371. For instructions on connecting to eLibrary, refer to the last page of this notice.

Your scoping comments will be recorded by a court reporter (with FERC staff or representative present) and become part of the public record for this proceeding. Transcripts will be publicly available on FERC's eLibrary system (see the last page of this notice for instructions on using eLibrary). If a significant number of people are interested in providing verbal comments in the one-on-one settings, a time limit of 3 minutes may be implemented for each commentor.

It is important to note that the Commission provides equal consideration to all comments received, whether filed in written form or provided verbally at a scoping session. Although there will not be a formal presentation, Commission staff will be available throughout the scoping session to answer your questions about the environmental review process. Representatives from Transco and National Fuel will also be present to answer project-specific questions.

Summary of the Planned Projects

National Fuel and Transco are planning to construct and operate interdependent natural gas infrastructure projects. The FM100 Project would modernize a portion of National Fuel's existing pipeline system and create 330,000 Dth/day of incremental transportation capacity. This additional transportation capacity is fully subscribed to Transco under a proposed capacity lease which would provide gas supply from the Marcellus and Utica Shale production areas of Pennsylvania to Transco's Leidy South Project. The Leidy South Project would provide 582,400 Dth/d of incremental firm transportation capacity to Transco's River Road regulating station in Lancaster, Pennsylvania.

The FM100 Project would consist of the following facilities, all in Pennsylvania:

• Installation of 29.5 miles of new 20-inch-diameter pipeline (Line YM58) in McKean and Potter Counties;

• installation of approximately 1.4 miles of 24-inch-diameter pipeline loop ² (YM224 Loop) in Potter County;

² A pipeline loop is a segment of pipe constructed parallel to an existing pipeline to increase capacity.

• installation of 0.4 mile of 12-inch-diameter pipeline (Line KL Extension) in McKean County;

• installation of the new Marvindale Compressor Station (up to 15,165 horsepower [hp]) in McKean County;

• installation of the new Tamarack Compressor Station (up to 22,220 hp) in Clinton County;

• abandonment in place of approximately 50.0 miles of 12-inch-diameter pipeline (Line FM100) and appurtenances in Clearfield, Elk, and Potter Counties;

• abandonment by removal of the existing Costello Compressor Station in Potter County;

• abandonment by removal of the existing Station WHP-MS-4317X in Potter County;

• installation of the Marvindale Interconnect in McKean County;

• installation of the Carpenter Hollow over-pressurization protection Station in Potter County; and

• installation of associated facilities such as mainline valves and other appurtenant facilities.

The Leidy South Project would consist of the following facilities, all in Pennsylvania:

• Installation of approximately 3.6 miles of 42-inch-diameter pipeline loop (Benton Loop) in Lycoming County;

• installation of approximately 2.5 miles of 36-inch-diameter pipeline loop (Hilltop Loop) in Clinton County;

• replacement of approximately 6.1 miles of existing 23.375-inch-diameter pipeline with 36-inch-diameter pipeline (Hensel Replacement) in Clinton County;

• installation of a new Compressor Station 607 (up to 46,930 hp) in Luzerne County;

• installation of a new Compressor Station 620 (up to 31,871 hp) in Schuylkill County;

• uprate of two electric motor-driven compressors (up to an additional 12,000 hp total) at the existing Compressor Station 605 in Wyoming County;

• installation of one new gas turbine driven compressor unit (up to 31,871 hp) and cooling unit, and the uprating and re-wheeling of two existing electric motor driven compressors (up to an additional 2,000 hp total) at the existing Compressor Station 610 in Columbia County; and

• installation of associated facilities such as mainline valves, communication facilities, and pig ³ launchers and receivers.

³ A “pig” is a tool that the pipeline company inserts into and pushes through the pipeline for cleaning the pipeline, conducting internal inspections, or other purposes.

The general locations of the projects' facilities are shown in appendix 2.

Land Requirements for Construction

Construction of the planned FM100 Project facilities would disturb approximately 540.0 acres of land for the aboveground facilities, construction of the pipelines, and the abandonment of Line FM100 and aboveground facilities. Following construction, National Fuel would maintain approximately 300.0 acres for permanent operation of the project's facilities; the remaining acreage would be restored and revert to former uses. The majority of the planned pipeline routes parallel existing pipeline, utility, or road rights-of-way.

Construction of the planned Leidy South Project facilities would disturb about 459.0 acres of land for construction of the aboveground and pipeline facilities. Following construction, Transco would maintain about 75.4 acres for permanent operation of the project's facilities; the remaining acreage would be restored and revert to former uses. The majority of the planned pipeline routes parallel existing pipeline, utility, or road rights-of-way.

The EA Process

The EA will discuss impacts that could occur as a result of the construction and operation of the planned projects under these general headings:

• Geology and soils;

• water resources, fisheries, and wetlands;

• vegetation and wildlife;

• threatened and endangered species;

• cultural resources;

• land use;

• socioeconomics;

• air quality and noise;

• public safety; and

• cumulative impacts.

Commission staff will also evaluate possible alternatives to the planned projects or portions of the projects, and make recommendations on how to lessen or avoid impacts on the various resource areas.

Although no formal applications have been filed, Commission staff has already initiated a NEPA review under the Commission's pre-filing process. The purpose of the pre-filing process is to encourage early involvement of interested stakeholders and to identify and resolve issues before the Commission receives an application. As part of the pre-filing review, Commission staff will contact federal and state agencies to discuss their involvement in the scoping process and the preparation of the EA.

The EA will present Commission staff's independent analysis of the issues. The EA will be available in electronic format in the public record through eLibrary ⁴ and the Commission's website (https://www.ferc.gov/industries/gas/enviro/eis.asp). If eSubscribed, you will receive instant email notification when the EA is issued. The EA may be issued for an allotted public comment period. Commission staff will consider all comments on the EA before making recommendations to the Commission. To ensure Commission staff has the opportunity to consider and address your comments, please carefully follow the instructions in the Public Participation section, beginning onpage 2.

⁴ For instructions on connecting to eLibrary, refer to the last page of this notice.

With this notice, the Commission is asking agencies with jurisdiction by law and/or special expertise with respect to the environmental issues related to these projects to formally cooperate in the preparation of the EA.⁵ Agencies that would like to request cooperating agency status should follow the instructions for filing comments provided under the Public Participation section of this notice. Currently, the U.S. Environmental Protection Agency and the U.S. Army Corps of Engineers has expressed their intention to participate as a cooperating agency in the preparation of the EA to satisfy their NEPA responsibilities related to these projects.

⁵ The Council on Environmental Quality regulations addressing cooperating agency responsibilities are at Title 40, Code of Federal Regulations, Part 1501.6.

Consultation Under Section 106 of the National Historic Preservation Act

In accordance with the Advisory Council on Historic Preservation's implementing regulations for section 106 of the National Historic Preservation Act, the Commission is using this notice to initiate consultation with the Pennsylvania State Historic Preservation Office, and to solicit their views and those of other government agencies, interested Indian tribes, and the public on the projects' potential effects on historic properties.⁶ The EA for the planned projects will document our findings on the impacts on historic properties and summarize the status of consultations under section 106.

⁶ The Advisory Council on Historic Preservation regulations are at Title 36, Code of Federal Regulations, Part 800. Those regulations define historic properties as any prehistoric or historic district, site, building, structure, or object included in or eligible for inclusion in the National Register of Historic Places.

Currently Identified Environmental Issues

Commission staff has already identified several issues that deserve attention based on a preliminary review of the planned facilities and the environmental information provided by Transco and National Fuel. This preliminary list of issues may change based on your comments and our analysis.

• Water resources and wetlands;

• construction in areas of steep slopes;

• forested land;

• residences;

• agricultural land;

• air quality;

• alternative new compressor station sites and configurations; and

• noise.

Environmental Mailing List

The environmental mailing list includes federal, state, and local government representatives and agencies; elected officials; environmental and public interest groups; Native American Tribes; other interested parties; and local libraries and newspapers. This list also includes all affected landowners (as defined in the Commission's regulations) who are potential right-of-way grantors, whose property may be used temporarily for project purposes, who own homes within certain distances of aboveground facilities, or landowners who are affected by abandonments, and anyone who submits comments on the projects. Commission staff will update the environmental mailing list as the analysis proceeds to ensure that Commission notices related to this environmental review are sent to all individuals, organizations, and government entities interested in and/or potentially affected by the planned projects.

If the Commission issues the EA for an allotted public comment period, a Notice of Availability of the EA will be sent to the environmental mailing list and will provide instructions to access the electronic document on the FERC's website (www.ferc.gov). If you need to make changes to your name/address, or if you would like to remove your name from the mailing list, please return the attached Mailing List Update Form (appendix 3).

Becoming an Intervenor

Once National Fuel and Transco file their applications with the Commission, you may want to become an intervenor, which is an official party to the Commission's proceeding. Only intervenors have the right to seek rehearing of the Commission's decision and be heard by the courts if they choose to appeal the Commission's final ruling. An intervenor formally participates in the proceeding by filing a request to intervene pursuant to Rule 214 of the Commission's Rules of Practice and Procedures (18 CFR 385.214). Motions to intervene are more fully described at http://www.ferc.gov/resources/guides/how-to/intervene.asp. Please note that the Commission will not accept requests for intervenor status at this time. You must wait until the Commission receives a formal application for the projects, after which the Commission will issue a public notice that establishes an intervention deadline.

Additional Information

Additional information about the projects are available from the Commission's Office of External Affairs, at (866) 208-FERC, or on the FERC website (www.ferc.gov) using the eLibrary link. Click on the eLibrary link, click on General Search and enter the docket number(s) in the Docket Number field, excluding the last three digits (i.e., PF17-10 for the FM100 Project; PF19-1 for the Leidy South Project). Be sure you have selected an appropriate date range. For assistance, please contact FERC Online Support at FercOnlineSupport@ferc.gov or toll free at (866) 208-3676, or for TTY, contact (202) 502-8659. The eLibrary link also provides access to the texts of all formal documents issued by the Commission, such as orders, notices, and rulemakings.

Public sessions or site visits will be posted on the Commission's calendar located at www.ferc.gov/EventCalendar/EventsList.aspx along with other related information.

Dated: March 5, 2019.
Kimberly D. Bose,
Secretary.

[FR Doc. 2019-04318 Filed 3-8-19; 8:45 am]

BILLING CODE 6717-01-P